NUCLEAR REGULATORY COMMISSION

10 CFR Parts 20, 32, and 150

National Source Tracking of Sealed Sources; Meeting

AGENCY: Nuclear Regulatory Commission.

ACTION: Notice of meeting.

SUMMARY: The Nuclear Regulatory Commission (NRC) has published a proposed rule on National Source Tracking of Sealed Sources for public comment (70 FR 43646; July 28, 2005). The public comment period runs from July 28 thru October 11, 2005. As part of the public comment process, the NRC plans to hold two transcribed public meetings to solicit comments on the proposed rule. During the comment period, comments may also be mailed to the NRC or submitted via fax or e-mail. The meetings are open to the public and all interested parties may attend. The first meeting will be held at the NRC in Rockville, MD. The second meeting will be held at the offices of the Texas Department of State Health Services in Houston, TX.

DATES: August 29, 2005, from 9 a.m.—3 p.m. in Rockville, MD, and September 20, 2005, from 12:30 p.m. to 4:30 p.m. in Houston, TX.

ADDRESSES: The August 29 meeting will be held at the NRC Auditorium, Two White Flint North, 11545 Rockville Pike, Rockville, MD. The September 20 meeting will be held at the offices of the Texas Department of State Health Services—Elias Ramirez State Office Building, 5425 Polk Street, Rooms 4B-4E, Houston, Texas.

FOR FURTHER INFORMATION CONTACT: Merri Horn, telephone (301) 415-8126, e-mail, mlh1@nrc.gov; Julie Ward, telephone (301) 415-5061, e-mail jaw2@nrc.gov; or Ikeda King, telephone (301) 415-7278, e-mail ijk@nrc.gov of the Office of Nuclear Material Safety and Safeguards, U.S. Nuclear Regulatory Commission, Washington, DC 20555-0001.

SUPPLEMENTARY INFORMATION: The purpose of these meetings is to obtain stakeholder comments on the National Source Tracking Proposed Rule. The proposed rule would require licensees to report certain transactions involving certain sealed sources of concern to the National Source Tracking System. These transactions would include manufacture, transfer, receipt, or disposal of the nationally tracked source. The proposed rule would also require each licensee to provide its initial inventory of nationally tracked sources to the National Source Tracking System and annually verify and reconcile the information in the system with the licensee's actual inventory. In addition, the proposed rule would require manufacturers to assign a unique serial number to each nationally tracked source. The proposed rule is available on NRC's rulemaking Web site: http://ruleforum.llnl.gov.

Agenda: Welcome—10 minutes; NRC staff presentation on Rule Requirements—20 minutes; Public Comment—remainder. There will also be a poster board session on the transaction forms. To ensure that everyone who wishes has the chance to comment, we may impose a time limit on speakers.

Attendees are requested to notify Julie Ward, telephone (301) 415-5061, e-mail jaw2@nrc.gov or Ikeda King, telephone (301) 415-7278, e-mail ijk@nrc.gov to preregister for the meetings. You will be able to register at the meetings, as well.

Dated at Rockville, Maryland, this 2nd day of August, 2005.
For the Nuclear Regulatory Commission.
Charles L. Miller,
Director, Division of Industrial and Medical Nuclear Safety, Office of Nuclear Material Safety and Safeguards.

[FR Doc. 05-15661 Filed 8-5-05; 8:45 am]

BILLING CODE 7590-01-P